DEPARTMENT OF DEFENSE

Department of the Army, Corps of Engineers

Intent To Prepare a Draft Environmental Impact Statement for the Proposed Honolulu Seawater Air Conditioning Project, Honolulu, O'ahu, Hawai'i, Department of the Army Regulatory File Number POH-2004-1141

AGENCY: Department of the Army, U.S. Army Corps of Engineers, DOD.

ACTION: Notice of intent.

SUMMARY: The Honolulu Seawater Air Conditioning, LLC proposes to construct a seawater air conditioning system (SWAC) at Kaka'ako on the south shore of O'ahu in order to provide a renewable-energy air conditioning system for downtown Honolulu buildings. The applicants propose to construct intake and return pipelines in adjacent coastal waters to utilize available deep, offshore cold seawater for their planned onshore cooling plant. The proposed pipeline staging and installation sites are located within the navigable waters of the United States and the proposed activity is subject to the regulatory jurisdiction of the U.S. Army Corps of Engineers.

DATES: In order to be considered in preparation of the DEIS, comments and suggestions should be received no later than March 20, 2009.

ADDRESSES: Send written comments to U.S. Army Corps of Engineers, Honolulu District; ATTN: Regulatory Branch (CEPOH-EC-R/P. Galloway); Building 230; Fort Shafter, HI 96858-5440. Facsimile comments can be sent to 808-438-4060. Comments may also be submitted via e-mail to: honoluluswac@usace.army.mil.

FOR FURTHER INFORMATION CONTACT: Questions about the proposed action and the Draft Environmental Impact Statement (DEIS) should be addressed to: Mr. Peter Galloway (see ADDRESSES), Telephone 808-438-8416.

SUPPLEMENTARY INFORMATION: Honolulu Seawater Air Conditioning, LLC proposes to develop a seawater air conditioning system (SWAC) to serve the downtown area of Honolulu. The SWAC system would utilize available deep, cold seawater obtained offshore of Kaka'ako on the south shore of O'ahu.

To obtain, utilize, and return seawater, the applicant proposes to construct a 63-inch diameter seawater intake pipe extending offshore approximately four miles, to a depth of 1,770 feet; a 55-inch diameter seawater return pipe extending offshore approximately 2,000 feet, to a depth of 150 feet; an on-shore cooling station containing pumps, heat exchangers and auxiliary chillers; and a network of distribution pipes to circulate cooled fresh water from the station to customer buildings in the downtown area. In addition, the applicant proposes to use an area along the western shore of Sand Island and the adjoining channel area of Ke'ehi Lagoon for pipeline assembly and staging prior to towing and installing the lines at the project site. Individual pipe segments would be heat-fused to form longer segments and then flange-bolted to form a continuous line.

At the project site, the pipelines would be buried from behind the shore to some depth offshore in order to reduce negative impacts to the benthic environment and to protect the pipes from high waves and storm surge in the nearshore zone. The offshore portions of the intake and return pipelines, which would be installed adjacent to each other, would be supported on pre-cast concrete supports which would be placed on the pipelines prior to their filling and sinking at the project site. The seaward end of the intake line would be unscreened and would terminate in a right-angle elbow, such that water would be drawn down into the pipe from about 14 feet above the sea bottom. The seaward end of the return pipeline would terminate in a diffuser section extending from depths of 120 to 150 feet.

The proposed project would involve work or structures in or affecting the course, condition, location or capacity of navigable waters of the United States. It would also involve the discharge of dredged or fill material into waters of the United States. Federal authorization of the project will therefore require issuance of a Department of the Army (DA) permit pursuant to both Section 10 of the Rivers and Harbors Act of 1899 (33 U.S.C. 403) and Section 404 of the Clean Water Act (33 U.S.C. 1344).

In addition to the no-action alternative and the applicant's proposal, other alternatives to be considered in the DEIS may include: (1) Project utilizing different technology; (2) project with different size, alignment or location.

Potentially significant impacts identified to date and to be addressed in the DEIS include: (1) Reduction in demand for fossil fuel-based electrical energy consumption in the service area; (2) setting of precedent for use of large-scale SWAC on O'ahu; (3) commitment to long-term presence of elevated intake and outfall pipelines in navigable waters which will require avoidance by future activities that could damage the lines; (4) temporary (estimated 10-month) displacement of canoe paddlers and other users of the Ke'ehi Lagoon pipeline staging area; (5) short-term and long-term changes in benthic habitat; (6) entrainment of sea life by the unscreened seawater intake during system operation; (7) effects of project construction and operation on federally protected species (sea turtles, cetaceans, monk seals); (8) uncertain long-term water quality effects of discharged return flow.

The decision whether to issue a DA permit will be based on an evaluation of the probable impacts, including cumulative impacts, of the proposed activity on the public interest. That decision will reflect the national concern for both protection and utilization of important resources. The benefit, which reasonably may be expected to accrue from the proposal, must be balanced against its reasonably foreseeable detriments. All factors which may be relevant to the proposal will be considered, including the cumulative effects thereof: among these are conservation, economics, aesthetics, general environmental concerns, wetlands, historic values, fish and wildlife values, flood hazards, floodplain values, land use, navigation, shoreline erosion and accretion, recreation, water supply and conservation, water quality, energy needs, safety, food and fiber production, mineral needs, considerations of property ownership and, in general, the needs and welfare of the people. Evaluation of the impact of the activity on the public interest will include application of the guidelines promulgated by the Administrator, Environmental Protection Agency (40 CFR Part 230).

The Corps anticipates that consultations will be required pursuant to provisions of the Magnuson-Stevens Fishery Conservation and Management Act, Section 7 of the Endangered Species Act, and Section 106 of the National Historic Preservation Act. Before a final DA permit can be issued, the applicant must first obtain a Hawai'i Coastal Zone Management (CZM) Program federal consistency certification issued by the State of Hawai'i Department of Business, Economic Development and Tourism, and a Clean Water Act Section 401 Water Quality Certification, or waiver thereof, issued by the State of Hawai'i Department of Health.

The Corps invites participation in the EIS process of affected federal, state and local agencies; affected Hawaiian organizations, individuals and practitioners; and other interested private organizations and parties. The applicant has previously issued a state-level DEIS pursuant to requirements of the Hawai'i Revised Statutes (HRS Chapter 343). All comments received in response to this NOI will be considered when determining the scope of the federal DEIS.

A public scoping meeting will be held on Thursday, March 5, 2009, at the McKinley High School Cafeteria, 1039 South King Street, Honolulu, Hawai'i, from 6:30 p.m. until 8:30 p.m., to help determine the scope of analysis of the proposed action. The scoping meeting will also be announced in local media. Interested parties are encouraged to express their views during the scoping process and throughout the development of alternatives and the federal DEIS. To be most helpful, comments should clearly describe specific environmental topics or issues which the commenter believes the document should address. Further information concerning the proposed or the scoping meeting may be obtained from Peter C. Galloway (see ADDRESSES). The DEIS is expected to be published and circulated for review in mid-2009, and the final EIS is expected to be completed 4 to 6 months later.

Dated: February 3, 2009.
John W. Henderson,
Major, U.S. Army, Acting Commander.

[FR Doc. E9-3251 Filed 2-13-09; 8:45 am]

BILLING CODE 3720-58-P